DEPARTMENT OF STATE

Bureau of Western Hemisphere Affairs

[Public Notice 7269]

Finding of No Significant Impact From the Expansion, Renovation, Operation and Maintenance of the Nogales Mariposa Commercial and Pedestrian Border Crossing

AGENCY: Department of State.

ACTION: Notice.

SUMMARY: The Department of State is publishing a Finding of No Significant Impact (FONSI) for the proposed expansion, renovation, operation and maintenance of the Nogales Mariposa Commercial and Pedestrian Border Crossing between Nogales, Arizona and Nogales, Sonora, Mexico.

FOR FURTHER INFORMATION CONTACT: Mr. Stewart Tuttle, Coordinator of Border Affairs, Office of Mexican Affairs, Bureau of Western Hemisphere Affairs. U.S. Department of State, 2201 C Street, NW., Washington, DC 20520, phone 202-647-6356, or e-mail: Tuttlesd@state.gov. General information about Presidential Permits is available on the Internet at http://www.state.gov/p/wha/rt/permit/.

SUPPLEMENTARY INFORMATION: The following represents the text of the State Department-approved FONSI—The General Services Administration (“GSA”) has submitted an application for a Presidential permit to expand, renovate, operate and maintain the Nogales Mariposa Commercial and Pedestrian Border Crossing between Nogales, Arizona and Nogales, Sonora, Mexico. The Department of State (the “Department”) has determined that under Executive Order 11423, as amended, a Presidential permit is required for the proposed alteration of the existing border crossing since it would involve a significant modification in a piercing of the United States-Mexico border. See 75 FR 14487 (March 25, 2010).

The Nogales Land Port of Entry (LPOE) was constructed in 1973 and is located at the U.S.-Mexico border between the City of Nogales, Arizona and the City of Nogales, Sonora, Mexico, approximately 65 miles south of Tucson, Arizona. The LPOE is a full-service facility inspecting primarily commercial vehicles, but also personally-owned vehicles and pedestrians entering the U.S. from Mexico. Today the LPOE is one of the ten busiest cargo ports along the entire U.S.-Mexico border. As a result of the North American Free Trade Agreement (NAFTA), the LPOE serves as the primary commercial truck route between the U.S. and Mexico in the Nogales area and is a linchpin in the international trade infrastructure between the U.S., Mexico and Canada.

GSA has sought a Presidential permit because of the need for an upgrade to the current LPOE facilities necessitated by the increased trade volume between the U.S. and Mexico brought about by NAFTA. Pedestrian crossings have tripled since 2002 and are expected to increase nearly 200 percent by 2025. Bus traffic at the LPOE doubled between 2002 and 2006. Currently, the LPOE processes approximately 1,000 commercial vehicles per day. This figure is expected to increase to 1,730 per day by 2030. The current LPOE infrastructure does not conform to GSA's current guidelines governing layout, minimum vehicle clearances, pedestrian and employee safety and national security. Due to its outdated equipment and inefficient traffic circulation, the existing LPOE configuration will not be able to handle the predicted increases in traffic volume. Congress in the Reinvestment and Recovery Act of 2009 provided $199 million to upgrade current facilities and completion of this upgrade is a priority project for both GSA and the Bureau of Customs and Border Protection (CBP) of the Department of Homeland Security (DHS).

The General Services Administration (GSA) published an Environmental Assessment (EA) for the proposed expansion, renovation, operation and maintenance of the Nogales Mariposa Commercial and Pedestrian Border Crossing between Nogales, Arizona and Nogales, Sonora, Mexico on June, 12, 2009. Based on that EA, GSA then also issued its own FONSI on August 7, 2009 concluded that the Nogales project is not a major federal action significantly affecting the quality of the human environment that would require an environmental impact statement and gave public notice of its finding of no significant impact (FONSI) on June 24, 2009. 74 Fed. Reg. 30090. In response to comments from both the Department of State and the Council on Environmental Quality (CEQ), GSA had prepared a revised EA published on June 29, 2010, which it furnished the State Department as part of its application. The State Department staff has reviewed that document and concluded that all of State's comments and suggestions have been satisfied. Therefore, based on the findings and mitigation measure set forth below, we recommend that you adopt the revised EA (which is hereby incorporated by reference) and conclude that project described in the revised EA is not a federal action significantly affecting the quality of the human environment and that an Environmental Impact statement is not required.

The State Department has determined that based upon these documents, all procedural requirements have been met and granting the Presidential permit for this border crossing is not a federal action significantly affecting the quality of the human environment. Therefore, no Environmental Impact Statement will be prepared.

Findings

1. The General Services Administration has previously published in the Federal Register (74 FR 30090FR 74, No. 120, Doc E9-14781, June 24, 2009) its determination that expansion, renovation, operation and maintenance of the Nogales Mariposa Commercial and Pedestrian Border Crossing between Nogales, Arizona and Nogales, Sonora, Mexico will not significantly affect the quality of the human environment.

2. All NEPA procedural requirements have been met, including a 30-day public notice period and coordination with federal, state, and local government agencies, as well as with Native Americans tribes.

3. The environmental commitments (mitigation measures) set forth below will offset any negative impacts identified by the in the revised GSA or updated EA (referenced above).

4. No disputes or controversies have arisen regarding the accuracy or presentation of environmental effects, as documented in the revised GSA or updated EA.

5. The Proposed Action would have no impact on historic properties. Pursuant to Section 106 of the National Historic Preservation Act, GSA consulted with the Arizona State Historic Preservation Office, the Tohono O'odham Nation, and the Hopi Tribe. The Arizona State Historic Preservation Office and the Hopi Tribe concurred with this finding in letters which are attached to the revised EA available on the GSA website.

6. Pursuant to Section 7 of the Endangered Species Act (ESA), GSA, as the lead federal agency, determined that the Proposed Action would not affect any proposed or designated critical habitat, and the Department concurs with this decision that implementation of the project will not adversely affect any threatened or endangered species.

7. All soil disturbance and shrub removal will be minimized during relocation.

8. Implementation of this action will have no adverse impact on any Indian Trust Assets.

9. Implementation of this action will not violate federal, state, or local law.

Mitigation Measures

The following mitigation and monitoring measures will be implemented to ensure that the action will not have not have a significant impact on the quality of the human environment:

• Upon completion of the Arizona Department of Transportation small area transportation study, the GSA will reevaluate the impacts of the preferred alternative on local and regional traffic and provide the Department with supporting information for the Regional Transportation Plan.

• During final design, GSA will develop traffic control and trailblazing plans to warn drivers and pedestrians of the construction activities and ensure safe travel through the area.

• During final design, GSA will develop construction sequencing plans ensure smooth border operations and maintain pedestrian, commercial, and non-commercial traffic flow.

• The contractor shall stabilize open storage piles and disturbed areas by covering and/or applying water or chemical/organic dust palliative where appropriate. This applies to both inactive and active sites, during workdays, weekends, holidays, and windy conditions.

• The contractor shall install wind fencing and phase grading operations where appropriate, and operate water trucks for stabilization of surfaces under windy conditions.

• When hauling material and operating non-earthmoving equipment, the contractor shall prevent spillage and limit speeds to 15 mph.

• The contractor shall limit the speed of earth-moving equipment to 10 mph.

• The contractor shall reduce use, trips and unnecessary idling from heavy equipment.

• The contractor shall maintain and tune vehicle engines per manufacturer's specifications to perform at EPA certification levels and to perform at verified standards applicable to retrofit technologies.

• The contractor shall employ periodic, unscheduled inspections to limit unnecessary idling and to ensure that construction equipment is properly maintained, tuned, and modified consistent with established specifications.

• The contractor shall prohibit any tampering with engines and require continuing adherence to manufacturer's recommendations.

• The contractor shall, if practicable, lease newer and cleaner equipment meeting the most stringent of applicable federal or state Standards.

• The contractor shall utilize equipment that has EPA-registered particulate traps and other appropriate controls where suitable to reduce emissions of diesel particulate matter and other pollutants at the construction site.

• The contractor shall prepare an inventory of all equipment prior to construction and identify the suitability of add-on emission controls for each piece of equipment before groundbreaking. The suitability of control devices is based on: Whether there is reduced normal availability of the construction equipment due to increased downtime and/or power output, whether there may be significant damage caused to the construction equipment engine, or whether there may be a significant risk to nearby workers or the public.

• The contractor shall utilize the cleanest available fuel engines in construction equipment and identify opportunities for electrification.

• The contractor shall use low sulfur fuel (diesel with 15 parts per million or less) in engines where alternative fuels such as biodiesel and natural gas are not possible.

• The contractor shall develop a construction-traffic and parking management plan that minimizes traffic interference and maintains traffic flow.

• The contractor shall not disturb any of the drainages surrounding the project a until a determination has been made by the U.S. Army Corps of Engineers that the project may proceed under a Nationwide Permit and an individual Water Quality Certification from the ADEQ has been obtained. Additionally, an individual Water Quality Certification would be obtained from the Arizona Department of Environmental Quality.

• GSA shall submit a preliminary set of plans, a hydrology/hydraulics report, and a CLOMR for the project to the Santa Cruz County Flood Control District prior to final design and construction.

• GSA shall submit preliminary set of plans, a hydrology/hydraulics report, and a CLOMR for the project will be submitted to the EPA for comment prior to final design and construction.

• Since the Proposed Action would involve demolition of existing structures, GSA shall engage an Asbestos Hazard Emergency Response Act certified inspector to inspect all structures to be demolished. If Regulated Asbestos Containing Material is present in the structures, GSA shall develop a work plan to remove, transport, and dispose of these materials.

• At least 10 days prior to demolition of any structure GSA shall provide the ADEQ National Emission Standard Hazardous Air Pollutant coordinator with a National Emission Standard Hazardous Air Pollutant notification form for each structure to be demolished.

• GSA shall notify the Santa Cruz County Flood Control District and the Arizona Department of Water Resources prior to undertaking any work that would disturb the rainfall and stream level gauges on the upstream headwall of the culverts on Ephraim Canyon/Las Canoas Wash. In accordance with NEPA (42 U.S.C. 4321 et seq.), the regulations of the Council on Environmental Quality (40 CFR 1500-1508), and the Department's implementing regulations (22 CFR part 161, and in particular 22 CFR 161.7(c)) and based on the findings and mitigation measures above, the Department of State finds that the project described in the attached Revised GSA EA is not a federal action significantly affecting the quality of the human environment. Therefore, no Environmental Impact statement will be prepared.

Dated: December 10, 2010.
Edward Alexander Lee,
Director, Office of Mexican Affairs, Department of State.

[FR Doc. 2010-31502 Filed 12-14-10; 8:45 am]

BILLING CODE 4710-29-P